DEPARTMENT OF DEFENSE

Department of the Navy

Notice of Availability of Government-Owned Inventions; Available for Licensing

AGENCY: Department of the Navy, DOD.

ACTION: Notice.

SUMMARY: The Department of the Navy hereby gives notice of the availability of exclusive or partially exclusive license to practice worldwide under the following pending patents. Any license granted shall comply with 35 U.S.C. 209 and 37 CFR part 404. Applications will be evaluated utilizing the following criteria: Ability to manufacture and market the technology; manufacturing and marketing ability; time required to bring technology to market and production rate; royalties; technical capabilities; and small business status.

U.S. Patent application Serial Number 11/208,120 entitled “Fiber pigtails and method for fabricating same” filed on August 16, 2005. This application teaches a method of pre-alignment of birefringent fiber in a handle so the assembly would snap-in to a prefabricated receptacle on a polymer integrated optic chip.

U.S. Patent application Serial Number 11/208,119 entitled “Polymer integrated optical transceiver” filed on August 16, 2005. This application teaches the assembly of a polymer integrated optic transceiver module that outputs polarized light intended for use in fiber optic gyros.

U.S. Patent application Serial Number 11/288,066 entitled “Polymer Phase Modulator” filed on November 23, 2005. This application teaches a hybrid polarizing/non-polarizing beam splitter/phase modulator for use in a fiber optic gyro.

U.S. Patent application Serial Number 11/288,065 entitled “Polymer Phase Modulator” filed on November 23, 2005. This application teaches a non-polarizing beam splitter/phase modulator for use in a fiber optic gyro.

U.S. Patent application Serial Number 11/288,050 entitled “Polymer Phase Modulator” filed on November 23, 2005. This application teaches a polarizing beam splitter/phase modulator for use in a fiber optic gyro.

U.S. Patent application Serial Number 11/288,051 entitled “Polymer Phase Modulator” filed on November 23, 2005. This application teaches a hybrid polarizing/non-polarizing phase modulator.

U.S. Patent application Serial Number 10/816,578 entitled “Apparatus and Method for Image Based Coordinate Determination” filed on March 25, 2004. This application teaches a method for providing mensurated geospatial coordinates complete with error terms on any windows based platform from stereo pair satellite imagery.

DATES: Applications for an exclusive or partially exclusive license may be submitted at any time from the date of this notice.

ADDRESSES: Requests for copies of the patents cited should be directed to: Naval Air Warfare Center Weapons Division, Code 498400D, 1900 N. Knox Road Stop 6312, China Lake, CA 93555-6106, and must include the patent number.

FOR FURTHER INFORMATION CONTACT: Michael D. Seltzer, Ph.D., Head, Technology Transfer Office, Naval Air Warfare Center Weapons Division, Code 498400D, 1900 N. Knox Road Stop 6312, China Lake, CA 93555-6106, telephone 760-939-1074 or E-Mail at: michael.seltzer@navy.mil.

(Authority: 35 U.S.C. 207, 37 CFR part 404.)

Dated: May 10, 2006.
Saundra K. Melancon,
Paralegal Specialist, Alternate Federal Register Liaison Officer.

[FR Doc. E6-7561 Filed 5-17-06; 8:45 am]

BILLING CODE 3810-FF-P